DEPARTMENT OF EDUCATION

Notice of Submission for OMB Review; Office of Postsecondary Education; Talent Search (TS) Annual Performance Report

SUMMARY: The Talent Search program provides Federal financial assistance in the form of discretionary grants to to help youth from disadvantaged backgrounds complete secondary education and enroll in and complete programs of postsecondary education; and to publicize the availability of, and facilitate the application for, student financial assistance for persons who seek to pursue postsecondary education. The U.S. Department of Education (Department) is requesting approval of a new TS Annual Performance Report (APR) form to collect annual performance data from projects funded by TS program grants.

DATES: Interested persons are invited to submit comments on or before August 27, 2012.

ADDRESSES: Written comments regarding burden and/or the collection activity requirements should be electronically mailed to ICDocketMgr@ed.gov or mailed to U.S. Department of Education, 400 Maryland Avenue SW., LBJ, Washington, DC 20202-4537. Copies of the proposed information collection request may be accessed from http://edicsweb.ed.gov, by selecting the “Browse Pending Collections” link and by clicking on link number 04825. When you access the information collection, click on “Download Attachments” to view. Written requests for information should be addressed to U.S. Department of Education, 400 Maryland Avenue SW., LBJ, Washington, DC 20202-4537. Requests may also be electronically mailed to ICDocketMgr@ed.gov or faxed to 202-401-0920. Please specify the complete title of the information collection and OMB Control Number when making your request.

Individuals who use a telecommunications device for the deaf (TDD) may call the Federal Information Relay Service (FIRS) at 1-800-877-8339.

SUPPLEMENTARY INFORMATION: Section 3506 of the Paperwork Reduction Act of 1995 (44 U.S.C. Chapter 35) requires that Federal agencies provide interested parties an early opportunity to comment on information collection requests. The Director, Information Collection Clearance Division, Privacy, Information and Records Management Services, Office of Management, publishes this notice containing proposed information collection requests at the beginning of the Departmental review of the information collection. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Talent Search (TS) Annual Performance Report.

OMB Control Number: Pending.

Type of Review: New.

Total Estimated Number of Annual Responses: 461.

Total Estimated Number of Annual Burden Hours: 7,376.

Abstract: Talent Search grantees must submit this report annually. The report provides the Department with information needed to evaluate a grantee's performance and compliance with program requirements and to award prior experience points in accordance with the program regulations. The data collected is also aggregated to provide national information on project participants and program outcomes. This APR reflects new TS program regulations enacted on Oct. 26, 2010. The new regulations were necessitated by changes to the TS program in the Higher Education Opportunity Act of 2008. Fiscal Year 2011-2012 is the first year of a five year grant cycle during which TS projects are required to adhere to the new regulations.

Dated: July 23, 2012.
Darrin A. King,
Director, Information Collection Clearance Division, Privacy, Information and Records Management Services, Office of Management.

[FR Doc. 2012-18320 Filed 7-25-12; 8:45 am]

BILLING CODE 4000-01-P